DEPARTMENT OF JUSTICE

Drug Enforcement Administration

Ammar Sabbagh; Denial of Application

On June 12, 2006, the Deputy Assistant Administrator, Office of Diversion Control, Drug Enforcement Administration, issued an Order to Show Cause to Ammar Sabbagh (Respondent), of Sheridan, Oregon. The Show Cause Order proposed the denial of Respondent's pending application for a DEA Certificate of Registration as a distributor of the list I chemicals ephedrine and pseudoephedrine, on the ground that his “registration would be inconsistent with the public interest.” Show Cause Order at 1 (quoting 21 U.S.C. 823(h)).

More specifically, the Show Cause Order alleged that on November 4, 2005, Respondent pled guilty to conspiring to distribute pseudoephedrine, in violation of 21 U.S.C. 841(c)(2)-(3), and 846. Id. at 2. The Show Cause Order thus alleged that Respondent's proposed sales of list I chemical products would be inconsistent with the public interest. Id. The Show Cause Order further informed Respondent of his right to request a hearing on the allegations. Id.

On June 19, 2006, the Show Cause Order was served on Respondent by certified mail addressed to him at his new residence at the Federal Correctional Institution in Sheridan, Oregon. Since that time, neither Respondent, nor anyone purporting to represent him, has responded. Because (1) more than thirty days have passed since service of the Show Cause Order, and (2) Respondent did not timely request a hearing, I conclude that Respondent has waived his right to a hearing. See 21 CFR 1301.43(d). I therefore enter this Final Order without a hearing based on relevant material contained in the investigative file and make the following findings.

Findings

On December 10, 1999, Respondent applied for a DEA Certificate of Registration to distribute the list I chemicals ephedrine and pseudoephedrine. See 21 U.S.C. 802(34). While both chemicals have therapeutic uses, they are easily extracted from non-prescription drug products and used in the illicit manufacture of methamphetamine, a schedule II controlled substance. See 21 CFR 1308.12(d).

Methamphetamine is a powerful and addictive central nervous system stimulant. See Gregg Brothers Wholesale Co., Inc., 71 FR 59830 (2006). As noted in numerous agency orders, the illegal manufacture and abuse of methamphetamine pose a grave threat to this country. Methamphetamine abuse has destroyed numerous lives and families and ravaged communities. Moreover, because of the toxic nature of the chemicals used to make methamphetamine, its manufacture causes serious environmental harms. See, e.g., Id.

During the course of investigating Respondent's application, DEA became aware that he was selling large quantities of pseudoephedrine to an individual he knew was using methamphetamine. Thereafter, Respondent also began supplying pseudoephedrine to several methamphetamine traffickers. Respondent also met with a confidential source and agreed to supply him with twenty to twenty-five cases a month of pseudoephedrine.

On March 2, 2005, a federal grand jury returned an indictment which charged Respondent with conspiring to distribute pseudoephedrine, having knowledge and reasonable cause to believe that it would be used to manufacture methamphetamine. First Superseding Indictment, United States v. Sabbagh, et. al., No. CR04-398L, (W.D.Wash.) (citing 21 U.S.C. 841(c) & (e); Id. 846). On March 10, 2005, Respondent pled guilty to the charge, and on November 4, 2005, the United States District Court entered a judgment of conviction. The court then sentenced Respondent to terms of thirty-six months imprisonment followed by three years of supervised release. See United States v. Sabbagh, Judgment at 1-3.

Discussion

Section 303(h) of the CSA provides that “[t]he Attorney General shall register an applicant to distribute a list I chemical unless the Attorney General determines that registration of the applicant is inconsistent with the public interest.” 21 U.S.C. 823(h). In making this determination, Congress directed that I consider the following factors:

(1) Maintenance by the applicant of effective controls against diversion of listed chemicals into other than legitimate channels;

(2) Compliance by the applicant with applicable Federal, State, and local law;

(3) Any prior conviction record of the applicant under Federal or State laws relating to controlled substances or to chemicals controlled under Federal or State law;

(4) Any past experience of the applicant in the manufacture and distribution of chemicals; and

(5) Such other factors as are relevant to and consistent with the public health and safety.

Id.

“These factors are considered in the disjunctive.” Joy's Ideas, 70 FR 33195, 33197 (2005). I may rely on any one or a combination of factors, and may give each factor the weight I deem appropriate in determining whether an application for a registration should be denied. See, e.g., David M. Starr, 71 FR 39367, 39368 (2006); Energy Outlet, 64 FR 14269 (1999). Moreover, I am “not required to make findings as to all of the factors.” Hoxie v. DEA, 419 F.3d 477, 482 (6th Cir. 2005); Morall v. DEA, 412 F.3d 165, 173-74 (D.C. Cir. 2005).

Given Respondent's conviction for conspiring to distribute pseudoephedrine knowing that it would be used to manufacture methamphetamine, I conclude that factor three is dispositive and that it is unnecessary to make findings as to the remaining factors. Respondent's conviction indisputably establishes that granting him a registration would be “inconsistent with the public interest.” 21 U.S.C. 823(h). Respondent's application will therefore be denied.

Order

Pursuant to the authority vested in me by 21 U.S.C. 823(h), and 28 CFR 0.100(b) & 0.104, I order that the application of Ammar Sabbagh for a DEA Certificate of Registration as a distributor of list I chemicals be, and it hereby is, denied. This order is effective January 3, 2008.

Dated: November 21, 2007.
Michele M. Leonhart,
Deputy Administrator.

[FR Doc. E7-23476 Filed 12-3-07; 8:45 am]

BILLING CODE 4410-09-P